DEPARTMENT OF LABOR

Employment and Training Administration

[TA-W-83,096]

Newark Recycled Paperboard Solutions; Newark Paperboard Products; Greenville, Pennsylvania; Notice of Negative Determination Regarding Application for Reconsideration

By application dated January 4, 2014 a worker requested administrative reconsideration of the Department's negative determination regarding eligibility for workers and former workers of Newark Recycled Paperboard Solutions, Newark Paperboard Products, Greenville, Pennsylvania (subject firm) to apply for Trade Adjustment Assistance (TAA). The negative determination was issued on November 13, 2013, and the Department's Notice of negative determination was published in the Federal Register on December 9, 2013 (78 FR 73888). The subject workers produce recycled paperboard tubes and cores. Workers are not separately identifiable by product line.

The negative determination was issued because the subject firm did not shift to a foreign country production of articles like or directly competitive with the recycled paperboard tubes and cores produced by the workers at the subject firm; the subject firm did not, during the relevant period, increase imports of articles like or directly competitive with the recycled paperboard tubes and cores produced by the workers at the subject firm; declining customers of the subject firm did not, during the relevant period, increase imports of articles like or directly competitive with the recycled paperboard tubes and cores produced by the workers of the subject firm; the subject firm was not a Supplier or Downstream Producer to a firm that employed a worker group eligible to apply for TAA, per Section 222(b) of the Trade Act of 1974, as amended (the Act); and the subject firm was not identified by name by the International Trade Commission, per Section 222(e) of the Act.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that, due to the closure of two facilities that employed worker groups who are eligible to apply for TAA (TA-W-80,495 and TA-W-81,155), the costs of shipping of raw material to the Newark, Pennsylvania facility has increased, that “several of our customers have already been transferred to Canada” and that another customer (Aurubis) was scheduled to transfer to Canada. The request concludes that the increased costs of raw material and the customers' decision to shift operations to Canada have “directly affected” employment at the subject firm.

After careful review of the request for reconsideration, the support documentation, and previously submitted materials, the Department determines that there is no new information that supports a finding that Section 222 of the Trade Act of 1974 was satisfied and that no mistake or misinterpretation of the facts or of the law with regards to the number or proportion of workers separated from the subject firm during the relevant period.

During the initial investigation, the Department took into consideration the aforementioned certifications, inquired into imports of recycled paperboard tubes and cores (and like or directly competitive articles) by both the subject firm and the firm's major declining customers, inquired whether the subject firm shifted to a foreign country the production of recycled paperboard tubes and cores (and like or directly competitive articles) or acquired such production from a foreign country, considered whether or not the workers of the subject firm are secondarily-affected workers, and reviewed the International Trade Commission's findings, and did not find that such activity occurred during the relevant period.

The Department notes that, for purposes of the Act, the shift of customers' operations to a foreign country is not a basis for certification.

Conclusion

After review of the application and investigative findings, I conclude that there has been no error or misinterpretation of the law or of the facts which would justify reconsideration of the Department of Labor's prior decision. Accordingly, the application is denied.

Signed at Washington, DC, this 14th day of March 2014.
Del Min Amy Chen,
Certifying Officer, Division of Trade Adjustment Assistance.

[FR Doc. 2014-07743 Filed 4-7-14; 8:45 am]

BILLING CODE 4510-FN-P